DEPARTMENT OF HEALTH AND HUMAN SERVICES

National Toxicology Program (NTP); Liaison and Scientific Review Office; Meeting of the NTP Board of Scientific Counselors

AGENCY: National Institute of Environmental Health Sciences (NIEHS), National Institutes of Health.

ACTION: Meeting announcement and request for comments.

SUMMARY: Pursuant to Public Law 92-463, notice is hereby given of a meeting of the NTP Board of Scientific Counselors (NTP BSC). The NTP BSC is composed of scientists from the public and private sectors and provides primary scientific oversight to the Director for the NTP and evaluates the scientific merit of the NTP's intramural and collaborative programs.

DATES: The NTP BSC meeting will be held on December 1, 2006. In order to facilitate planning for this meeting, persons wishing to make an oral presentation are asked to notify the Executive Secretary for the NTP BSC by November 17, 2006 (see FOR FURTHER INFORMATION CONTACT below). Written comments should also be received by November 17, 2006, to enable review by the NTP BSC and NIEHS/NTP staff prior to the meeting. Persons needing special assistance, such as sign language interpretation or other reasonable accommodation in order to attend, should contact 919-541-2475 (voice), 919-541-4644 TTY (text telephone), through the Federal TTY Relay System at 800-877-8339, or by e-mail to niehsoeeo@niehs.nih.gov. Requests should be made at least 7 days in advance of the event.

ADDRESSES: The NTP BSC meeting will be held in the Rodbell Auditorium, Rall Building at the National Institute of Environmental Health Sciences, 111 T. W. Alexander Drive, Research Triangle Park, NC 27709.

FOR FURTHER INFORMATION CONTACT: Public comments and any other correspondence should be submitted to Dr. Barbara Shane, Executive Secretary for the NTP Board (NTP Liaison and Scientific Review Office, NIEHS, P.O. Box 12233, MD A3-01, Research Triangle Park, NC 27709; telephone: 919-541-4253, fax: 919-541-0295; or e-mail: shane@niehs.nih.gov).

SUPPLEMENTARY INFORMATION:

Preliminary Agenda Topics and Availability of Meeting Materials Preliminary agenda topics are as follows:

• NTP Retreat.

• Update of NTP Activities.

• Reports on Workshops related to the NTP Roadmap.

• NTP BSC's Technical Report Review Subcommittee Report.

• Concept Reviews for the NTP/NIEHS Host Susceptibility Program and the NTP/NIEHS MRI Imaging Contract.

• NTP/NIEHS Exposure Biology Program.

• Nominations to the Center for Evaluation of Risks to Human Reproduction.

A copy of the preliminary agenda, committee roster, and any additional information, when available, will be posted on the NTP Web site (http://ntp.niehs.nih.gov select Advisory Board and Committees) or may be requested in hardcopy from the Executive Secretary for the NTP BSC (see FOR FURTHER INFORMATION CONTACT above). Following the meeting, summary minutes will be prepared and made available on the NTP Web site.

Attendance and Registration

The meeting is scheduled for December 1, 2006, from 8:30 a.m. to adjournment and is open to the public with attendance limited only by the space available. Individuals who plan to attend are encouraged to register online at the NTP Web site by November 22, 2006, to facilitate access to the NIEHS campus. Please note that a photo ID is required to access the NIEHS campus. The NTP is making plans to videocast the meeting through the Internet at http://www.niehs.nih.gov/external/video.htm.

Request for Comments

Time is allotted during the meeting for the public to present comment to the NTP BSC and NTP staff on the agenda topics. Each organization is allowed one time slot per agenda topic. At least 7 minutes will be allotted to each speaker, and if time permits, may be extended to 10 minutes. Registration for oral comments will also be available on-site, although time allowed for presentation by on-site registrants may be less than that for pre-registered speakers and will be determined by the number of persons who register at the meeting. Persons registering to make oral comments are asked, if possible, to send a copy of their statement to the Executive Secretary for the NTP BSC (see FOR FURTHER INFORMATION CONTACT above) by November 17, 2006, to enable review by the NTP BSC and NIEHS/NTP staff prior to the meeting. Written statements can supplement and may expand the oral presentation. If registering on-site and reading from written text, please bring 40 copies of the statement for distribution to the NTP BSC and NIEHS/NTP staff and to supplement the record.

Written comments received in response to this notice will be posted on the NTP Web site. Persons submitting written comments should include their name, affiliation, mailing address, phone, fax, e-mail, and sponsoring organization (if any) with the document.

Background Information on the NTP Board of Scientific Counselors

The NTP BSC is a technical advisory body comprised of scientists from the public and private sectors who provide primary scientific oversight to the overall program and its centers. Specifically, the NTP BSC advises the NTP on matters of scientific program content, both present and future, and conducts periodic review of the program for the purposes of determining and advising on the scientific merit of its activities and their overall scientific quality. Its members are selected from recognized authorities knowledgeable in fields such as toxicology, pharmacology, pathology, biochemistry, epidemiology, risk assessment, carcinogenesis, mutagenesis, molecular biology, behavioral toxicology and neurotoxicology, immunotoxicology, reproductive toxicology or teratology, and biostatistics. Members serve overlapping terms of up to four years. NTP BSC meetings are held annually or biannually.

Dated: October 13, 2006.
Samuel A. Wilson,
Deputy Director, National Institute of Environmental Health Sciences and National Toxicology Program.

[FR Doc. E6-17711 Filed 10-20-06; 8:45 am]

BILLING CODE 4140-01-P